DEPARTMENT OF AGRICULTURE

Forest Service

Thorne Bay Ranger District, Tongass National Forest, AK; North Thorne Environmental Impact Statement

AGENCY: Forest Service, USDA.

ACTION: Notice of intent to prepare an environmental impact statement.

SUMMARY: The Thorne Bay Ranger District proposes to implement a series of timber, road, and vegetation management projects in the 35,750-acre North Thorne project area near the community of Throne Bay, Alaska. The goal of this project is to implement Tongass National Forest Land and Resource Management Plan direction and move the project area toward the desired future condition described in that plan. Proposed actions include: harvest of about 10 million board feet of timber, construction of 4.7 miles of road, reconstruction of 31 miles of road, storage of 15 miles of drivable road, storage of 15 miles of non-drivable road, and treatment of 3,800 acres of young second-growth timber.

DATES: Comments concerning the scope of the analysis must be received within 30 days of the date of this notice. The draft environmental impact statement is expected December 2004 and the final environmental impact statement is expected April 2005. Public meetings are scheduled at the Thorne Bay Ranger District office, Thorne Bay Alaska: June 3, 2004, 6 p.m. and June 5, 2004, 10 a.m.

ADDRESSES: You may comment on the project in the following ways:

• Mail: Thorne Bay Ranger District, Attn: North Thorne EIS, PO Box 19001, Thorne Bay, AK, 99919.

• FAX to 907-828-3902.

• E-mail: comments-alaska-tongass-thorne-bay@fs.fed.us Subject: comments north thorne eis.

• Hand delivery: Thorne Bay Ranger District, Forest Service Dr, Thorne Bay AK. Include your name, address, and organization name if you are commenting as a representative. Scanned signatures are accepted on e-mails.

FOR FURTHER INFORMATION CONTACT: Susan Howell, North Thorne EIS Project Leader, PO Box 19001, Thorne Bay, AK, 99919. Phone 907-828-3263.

SUPPLEMENTARY INFORMATION: Purpose and Need for Action: The goal (need) of the North Thorne project is to implement Forest Plan direction and move the project area toward the desired future conditions described in that plan. The objectives (purpose) of the project are to:

1. Provide socio-economic opportunities for local communities and Southeast Alaska through timber harvest, road construction and maintenance, and vegetation management projects.

2. Improve vegetation conditions and wildlife habitat by treating densely stocked second-growth timber.

3. Manage access and reduce damage to aquatic habitats by replacing or removing road crossing structures that restrict fish passage, reducing sedimentation, and improving maintenance of drivable roads.

Background: The proposed project area is located on the Thorne Bay Ranger District of the Tongass National Forest in Township 69, 70 and 71 South, Range 82, 83 and 84 East, Copper River Meridian in Southeast Alaska. The project are covers 35,750 acres and is located in VCUs 5750, 5780, 5790, 5800, 5810, 5830, 5840, 5850, 5860, 5971, 5972. The project area consists of three land use designations (LUDs) that allow for timber harvest: Timber Production (18,898 acres), Modified Landscape LUD (4,752 acres), Scenic Viewshed LUD (1,178 acres). There are alos three LUDs that either limit or prohibit timber harvest: Old-growth Habitat (6,726 acres), Scenic River (3,062 acres), and Recreation River (1,133 acres).

The Thorne Bay Ranger District completed field reconnaissance of 27 potential timber harvest units in the North Thorne drainage between 1995 and 2000. An environmental assessment called North Thorne Timber Sale Project was scoped in September 2000 as a 5 MMBF environmental assessment. Internal and external concerns about the cumulative effects of past timber harvest on watershed health (especially fish and wildlife habitat), and the desire to make more volume available elevated the NEPA analysis level to an environmental impact statement. This project was sidelined until resources were available to complete the analysis.

Responsible Official: Forrest Cole, Tongass National Forest Supervisor, 648 Mission Street, Ketchikan, Alaska, 99901.

The Forest Supervisor will decide:

1. The amount, location and method of timber harvest and vegetation treatment.

2. Road management objectives including which roads will remain open to vehicle traffic.

3. Whether there may be a significant restriction on subsistence uses.

4. Watershed and stream restoration projects including which stream crossing structures will be replaced/removed.

Scoping Process: In addition to this notice and the two public meetings listed under DATES, notices will be placed in the Juneau Empire and the Island News newspapers. The Juneau Empire is the official newspaper of record for this project. Scoping letters were mailed to individuals and agencies on the Thorne Bay Ranger District's public involvement list on May 10, 2004.

Preliminary Issues: Previous scoping efforts have identified three preliminary issues: maintenance of a timber supply and local employment opportunities, management of roads in the project area, the cumulative effects of past harvest and road construction on vegetation conditions and fish and wildlife habitat.

Early notice of public participation: a draft environmental impact statement will be prepared for comment. The comment period on the draft environmental impact statement will be 45 days from the date the Environmental Protection Agency publishes the notice of availability in the Federal Register.

The Forest Service thinks, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Sup. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and address of those who comment, will be considered part of the public record on this proposal and will be available for public inspection

Authority: 40 CFR 1501.7 and 1508.22; Forest Service Handbook 1909.15, section 21.

Forrest Cole,
Forest Supervisor.

[FR Doc. 04-10529 Filed 5-17-04; 8:45 am]

BILLING CODE 3410-11-M